ENVIRONMENTAL PROTECTION AGENCY

[EPA-HQ-OAR-2007-1182; FRL-9909-76-OAR]

Proposed Information Collection Request; Comment Request; Emissions Certification and Compliance Requirements for Nonroad Compression-Ignition Engines and On-Highway Heavy Duty Engines

AGENCY: Environmental Protection Agency (EPA).

ACTION: Notice.

SUMMARY: The Environmental Protection Agency is planning to submit an information collection request (ICR), “Emissions Certification and Compliance Requirements for Nonroad Compression-ignition Engines and On-highway Heavy Duty Engines” (EPA ICR No. 1684.18, OMB Control No. 2060-0287) to the Office of Management and Budget (OMB) for review and approval in accordance with the Paperwork Reduction Act (44 U.S.C. 3501 et seq.). Before doing so, EPA is soliciting public comments on specific aspects of the proposed information collection as described below. This is a proposed extension and revision of the ICR, which is currently approved through August 31, 2014. An Agency may not conduct or sponsor and a person is not required to respond to a collection of information unless it displays a currently valid OMB control number.

DATES: Comments must be submitted on or before June 17, 2014.

ADDRESSES: Submit your comments, referencing Docket ID No. EPA-HQ-OAR-2007-1182, online using www.regulations.gov (our preferred method), by email to a-and-r-Docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Nydia Yanira Reyes-Morales, Environmental Protection Agency, 1200 Pennsylvania Avenue NW., Mail Code 6403J, Washington, DC 20460; telephone number: 202-343-9264; fax number: 202-343-2804; email address: reyes-morales.nydia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: For this ICR, EPA is seeking a revision to an existing package with a three year extension. Under ICR 1684.18, EPA collects information regarding heavy-duty on-highway engines and vehicles, nonroad compression-ignition engines, and categories 1 and 2 marine compression-ignition engines (collectively referred to here as “engines” for simplicity). Please note that category 3 marine engines and locomotives are covered under separate ICRs.

Title II of the Clean Air Act, (42 U.S.C. 7521 et seq.; CAA), charges the Environmental Protection Agency (EPA) with issuing certificates of conformity for those engines that comply with applicable emission standards. Such a certificate must be issued before engines may be legally introduced into commerce. The information collected is necessary to (1) issue certificates of compliance with emissions standards and requirements; and (2) verify compliance with various programs and regulatory provisions. To apply for a certificate of conformity, manufacturers are required to submit descriptions of their planned production engines, including detailed descriptions of emission control systems and test data. This information is organized by “engine family” groups. Engines within an engine family are expected to have similar emission characteristics.

The emission values achieved during certification testing may also be used in the Averaging, Banking, and Trading (ABT) Program. The program allows engine manufacturers to bank credits for engine families that emit below the standard and use the credits to certify engine families that emit above the standard. They may also trade banked credits with other manufacturers. Participation in the ABT program is voluntary.

The CAA also mandates EPA to verify that manufacturers have successfully translated their certified prototypes into mass produced engines; and that these engines comply with emission standards throughout their useful lives. EPA verifies this through `Compliance Programs' which include Production Line Testing (PLT), In-use Testing and Selected Enforcement Audits, (SEAs). Not all programs apply to all industries included in this ICR. PLT, which only applies to marine engines, is a self-audit program that allows engine manufacturers to monitor their products' emissions profile with statistical certainty and minimize the cost of correcting errors through early detection. In-use testing allows manufacturers and EPA to verify compliance with emission standards throughout an engine family's useful life. Through SEAs, EPA verifies that test data submitted by engine manufacturers is reliable and testing is performed according to EPA regulations.

There are varying recordkeeping and labeling requirements under all certification and compliance programs.

In this notice, former ICR 1826.05 (“Transition Program for Equipment Manufacturers (TPEM)”, OMB Control Number 2060-0369) is being incorporated into ICR 1684.18. This action is undertaken to consolidate compliance information requirements for nonroad compression ignition engines and equipment under a single ICR for simplification. With this consolidation, we combine most of the certification and compliance burden associated with the nonroad compression-ignition engine and equipment industries. Under TPEM, nonroad equipment manufacturers are allowed to delay compliance with Tier 4 standards for up to seven years as long as they comply with certain limitations. The program seeks to ease the impact of new emission standards on equipment manufacturers. This is achieved by allowing additional time for equipment manufacturers to redesign their products as needed in response to changes in engine designs. Participation in the program is voluntary. Participating equipment manufacturers and the engine manufacturers who provide TPEM engines are required to keep records and submit annual reports.

The information requested is collected by the Diesel Engine Compliance Center (DECC), Compliance Division (CD), Office of Transportation and Air Quality, Office of Air and Radiation, EPA. DECC uses this information to ensure that manufacturers are in compliance with applicable regulations and the CAA. The information may also be used by EPA's Office of Enforcement and Compliance Assurance and the Department of Justice for enforcement purposes. Most of the information is collected in electronic format and stored in CD's databases.

Manufacturers are allowed to assert a claim of confidentiality over information provided to EPA. Confidentiality is granted in accordance with the Freedom of Information Act and EPA regulations at 40 CFR Part 2. Non-confidential information may be disclosed on OTAQ's Web site or upon request under the Freedom of Information Act to trade associations, environmental groups, and the public.

Form Numbers: See Table 1 below.

Table 1—List of Forms Used To Collect Information Under ICR 1684.18
Form | No.
HD/NR Engine Manufacturer Annual Production Report | 5900-90.
AB&T Report for Heavy-duty On-highway Engines | 5900-134.
AB&T Report for Nonroad Compression Ignition Engines | 5900-125.
AB&T Report for Marine Compression-ignition Engines | Number in process.
PLT Report for Marine CI CumSum | 5900-297.
PLT Report for Marine CI Non-CumSum | 5900-298.
TPEM Equipment Manufacturer Notification | 5900-242.
TPEM Equipment Manufacturer Report | 5900-240.
TPEM Engine Manufacturer Report | 5900-241.
TPEM Bond Worksheet | 5900-239.
Marine CI Application for Certification | 5900-124.

Respondents/affected entities: Entities potentially affected by this action are manufacturers of nonroad compression ignition (CI) engines, marine CI engines and on-highway heavy-duty engines; owners of heavy-duty truck fleets, and manufacturers of nonroad compression ignition equipment.

Respondent's obligation to respond: Engine manufacturers must respond to this collection if they wish to sell their products in the U.S., as prescribed by Section 206(a) of the CAA (42 U.S.C. 7521). Participation in ABT is voluntary, but once a manufacturer has elected to participate, it must submit the required information. Likewise, participation in TPEM is voluntary, but once an engine or equipment manufacturer chooses to participate, it must submit the required notifications and annual reports (40 CFR 1039.625 and 1039.626). If applicable to a particular engine family, compliance programs reporting is mandatory.

Estimated number of respondents: 2,350 (total).

Frequency of response: Annual, quarterly, on occasion.

Total estimated burden: 244,287 hours (per year). Burden is defined at 5 CFR 1320.03(b).

Total estimated cost: $34,470,029 (per year), includes $13,752,082 annualized capital or operation & maintenance costs.

Changes in Estimates: There is an increase of 70,101 hours in the total estimated respondent burden compared with the ICR currently approved by OMB. This increase is due to (1) the merger of ICRs 1684.18 and 1826.05, and (2) an increase in the number of respondents. Please note that these are preliminary estimates. EPA is still evaluating information that could lead to a change, likely an increase, in these estimates.

Dated: April 11, 2014.
Byron J. Bunker,
Director, Compliance Division, Office of Transportation and Air Quality, Office of Air and Radiation.

[FR Doc. 2014-08918 Filed 4-17-14; 8:45 am]

BILLING CODE 6560-50-P